DEPARTMENT OF TRANSPORTATION

Federal Aviation Administration

Third Meeting: RTCA Special Committee 214/Standards for Air Traffic Data Communication Services

AGENCY: Federal Aviation Administration (FAA), DOT.

ACTION: Notice of RTCA Special Committee 214, Standards for Air Traffic Data Communication Services.

SUMMARY: The FAA is issuing this notice to advise the public of the third meeting of RTCA Special Committee 214, Standards for Air Traffic Data Communication Services.

DATES: The meeting will be held February 11-15, 2008, from 9 a.m.-5 p.m.

ADDRESSES: The meeting will be held at General Dynamics Decision Systems, Scottsdale, AZ.

FOR FURTHER INFORMATION CONTACT: RTCA Secretariat, 1828 L Street, NW., Suite 805, Washington, DC 20036; telephone (202) 833-9339; fax (202) 833-9434; Web site http://www.rtca.org for directions. (2) Hosted by Matt Johnson (480) 441-0122 (E) Matthew.Johnson@gdc4s.com.

SUPPLEMENTARY INFORMATION: Pursuant to section 10(a)(2) of the Federal Advisory Committee Act (Pub. L. 92-463, 5 U.S.C., Appendix 2), notice is hereby given for a Special Committee 214 meeting. The agenda will include:

Meeting Objectives

Agree the Environmental Definitions.

Agree the Service Descriptions.

Agree the Operational Safety Assessment and Operational Performance.

Assessment Methodology.

Establish Subgroup 3—Interoperability.

Agree on the Plan and Organization.

• February 11:

• Questions regarding work thus far (especially for those that did not follow the subgroup activities).

• OSA and OPA Methodology Tutorials.

• February 12:

• Opening Plenary Session (Welcome, Introductions, and Administrative Remarks, Agenda Review and Approval of Summary for meeting #2).

• Subgroup Reports

• SG-1.

• SG-2.

• Establish SG-3—Interoperability.

• Review and Resolve Draft OSED Product.

• February 13:

• Subgroup Working Sessions.

• Subgroup Activity: Subgroup General, SG1, SG2 and SG3.

• February 14:

• Subgroup Working Sessions.

• Subgroups Activity: Subgroups General, SG1, SG2 and SG3.

• February 15:

• Subgroup Reports.

• SG-1.

• SG-2.

• SG-3.

• Committee Scope—Terms of Reference, Proposed Changes, Presentation, Discussion, Recommendations.

• Closing Plenary Session (Establish Dates, Location and Agenda for Next Meeting, Other Business, Adjourn).

Attendance is open to the interested public but limited to space availability. With the approval of the chairmen, members of the public may present oral statements at the meeting. Persons wishing to present statements or obtain information should contact the person listed in the FOR FURTHER INFORMATION CONTACT section.

Members of the public may present a written statement to the committee at any time.

Issued in Washington, DC, on January 11, 2008.
Francisco Estrada C.,
RTCA Advisory Committee.

[FR Doc. 08-231 Filed 1-22-08; 8:45 am]

BILLING CODE 4910-13-M